DEPARTMENT OF TRANSPORTATION

Maritime Administration

[Docket No. MARAD-2008-0081]

Information Collection Available for Public Comments and Recommendations

ACTION: Notice of intention to request extension of OMB approval and request for comments.

SUMMARY: In accordance with the Paperwork Reduction Act of 1995, this notice announces the Maritime Administration's (MARAD's) intention to request extension of approval for three years of a currently approved information collection.

DATES: Comments should be submitted on or before November 3, 2008.

FOR FURTHER INFORMATION CONTACT: Thomas Christensen, Maritime Administration, 1200 New Jersey Avenue, SE., Washington, DC 20590. Telephone: 202-366-5909; or e-mail: tom.christensen@dot.gov. Copies of this collection also can be obtained from that office.

SUPPLEMENTARY INFORMATION: Title of Collection: Effective U.S. Control (EUSC)/Parent Company.

Type of Request: Extension of currently approved information collection.

OMB Control Number: 2133-0511.

Form Numbers: None.

Expiration Date of Approval: Three years from date of approval by the Office of Management and Budget.

Summary of Collection of Information: The Effective U.S. Control (EUSC)/Parent Company collection consists of an inventory of foreign-registered vessels owned by U.S. citizens. Specifically, the collection consists of responses from vessel owners verifying or correcting vessel ownership data and characteristics found in commercial publications. The information obtained could be vital in a national or international emergency and is essential to the logistical support planning operations conducted by Maritime Administration officials.

Need and Use of the Information: The information is used in contingency planning and provides data related to potential sealift capacity to support movement of fuel and military equipment to crisis zones.

Description of Respondents: U.S. citizens who own foreign-registered vessels.

Annual Responses: 60 responses.

Annual Burden: 30 hours.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov/search/indes.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/indes.jsp.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://www.regulations.gov/search/indes.jsp.

Authority: 49 CFR 1.66.

Dated: August 22, 2008.
By order of the Maritime Administrator.
Leonard Sutter,
Secretary, Maritime Administration.

[FR Doc. E8-20230 Filed 8-29-08; 8:45 am]

BILLING CODE 4910-81-P